ENVIRONMENTAL PROTECTION AGENCY

[EPA-HQ-OPP-2009-0503; FRL-8437-1]

Disulfoton and Methamidophos; Product Cancellation Order

AGENCY: Environmental Protection Agency (EPA).

ACTION: Notice.

SUMMARY: This notice announces EPA’s order for the cancellations, voluntarily requested by the registrants and accepted by the Agency, of pesticide products containing disulfoton or methamidophos, pursuant to section 6(f)(1) of the Federal Insecticide, Fungicide, and Rodenticide Act (FIFRA), as amended. This cancellation order follows a July 22, 2009 Federal Register Notice of Receipt Requests (FRL-8427-2) from the disulfoton and methamidophos registrants to voluntarily cancel their product registrations. These are the last disulfoton and methamidophos products registered for use in the United States. In the July 22, 2009 Notice, EPA indicated that it would issue an order implementing the cancellations, unless the Agency received substantive comments within the 30 day comment period that would merit its further review of these requests, or unless the registrants withdrew their requests within this period. The Agency did not receive any comments on the notice. Further, the registrants did not withdraw their requests. Accordingly, EPA hereby issues in this Notice a cancellation order granting the requested cancellations. Any distribution, sale or use of disulfoton and methamidophos products subject to this cancellation order is permitted only in accordance with the terms of this order, including any existing stock provisions.

DATES: This order is effective on September 23, 2009.

FOR FURTHER INFORMATION CONTACT:

Chemical Review Manager | Pesticide | Office location for Mail and Special Courier | Telephone Number | e-mail address
Joy Schnackenbeck | Methamidophos | Pesticide Re-evaluation Division, (7508P) Environmental Protection Agency 1200 Pennsylvania Ave., NW. Washington, DC 20460-0001 | (703) 308-8072 | schnackenbeck.joy@epa.gov
Eric Miederhoff | Disulfoton | Pesticide Re-evaluation Division Office of Pesticide Programs Environmental Protection Agency 1200 Pennsylvania Ave., NW. Washington, DC 20460-0001 | (703) 347-8028 | miederhoff.eric@epa.gov

SUPPLEMENTARY INFORMATION

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION, CONTACT.

B. How Can I Get Copies of this Document and Other Related Information?

1. Docket. EPA has established a docket for these actions under docket identification (ID) number EPA-HQ-OPP-2009-0503. Additional information regarding these pesticide active ingredients is available in: Docket ID number EPA-HQ-OPP-2009-0054 for disulfoton and docket ID number EPA-HQ-OPP-2009-0842 for methamidophos. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces the cancellations, as requested by registrants, of all disulfoton and methamidophos products registered under sections 3 and 24(c) of FIFRA. These registrations are listed in sequence by registration number in Table 1 of this Unit.

Table 1.—Disulfoton and Methamidophos Products Subject to this Cancellation Order
Registration Number | Product Name | Active Ingredient
264-723 | Di-Syston 15% Granular | Disulfoton
264-725 | Disulfoton Technical | Disulfoton
264-729 | Monitor 4 | Methamidophos
264-734 | Disulfoton 8 Emulsifiable Systemic Insecticide | Disulfoton
264-741 | Monitor Technical | Methamidophos
264-744 | Monitor 60% Concentrate | Methamidophos
264-1020 | Monitor 4 Spray | Methamidophos
264-1021 | Valent Monitor Technical | Methamidophos
432-1286 | Systemic 2 in 1 Rose Care 10-10-10 Rose Food with Insecticide | Disulfoton
5481-8989 | Terraclor Super-X Soil Fungicide With Di-Syston | Disulfoton
72155-49 | Flower Rose and Shrub Care | Disulfoton
AR970004 | Monitor 4 | Methamidophos
CA050010 | Di- Syston 8 Emulsifiable Systemic Insecticide | Disulfoton
CA780163 | Monitor 4 | Methamidophos
CA810044 | Di- Syston 8 Emulsifiable Systemic Insecticide | Disulfoton
CA840192 | Di- Syston 8 Emulsifiable Systemic Insecticide | Disulfoton
CA980013 | Monitor 4 | Methamidophos
DE910002 | Monitor 4 | Methamidophos
FL800046 | Monitor 4 | Methamidophos
FL900003 | Monitor 4 | Methamidophos
GA900001 | Monitor 4 | Methamidophos
IN790001 | Monitor 4 | Methamidophos
LA040011 | Monitor 4 Liquid Insecticide | Methamidophos
MD910009 | Monitor 4 | Methamidophos
MI060002 | Di- Syston 8 Emulsifiable Systemic Insecticide | Disulfoton
NC860005 | Di- Syston 8 Emulsifiable Systemic Insecticide | Disulfoton
NC880001 | Di- Syston 15% Granular | Disulfoton
NC890007 | Monitor 4 | Methamidophos
NC920011 | Di- Syston 15% Granular | Disulfoton
NJ960010 | Monitor 4 | Methamidophos
OH790008 | Monitor 4 | Methamidophos
OR040030 | Di- Syston 8 Emulsifiable Systemic Disulfoton Insecticide | Disulfoton
OR050024 | Di- Syston Disulfoton 8 Emulsifiable Systemic Insecticide | Disulfoton
SC780007 | Monitor 4 Liquid Insecticide | Methamidophos
TN060002 | Monitor 4 Liquid Insecticide | Methamidophos
TX860007 | Di- Syston 8 Emulsifiable Systemic Insecticide | Disulfoton
TX910016 | Monitor 4 | Methamidophos
VA910005 | Monitor 4 | Methamidophos
WA040015 | Di- Syston 8 Emulsifiable Systemic Insecticide | Disulfoton
WA040028 | Di-Syston 15% Granular | Disulfoton
WA920026 | Di- Syston 8 Emulsifiable Systemic Insecticide | Disulfoton

Table 2 of this unit includes the names and addresses of record, in sequence by EPA company number, for all registrants of the products in Table 1.

Table 2.—Registrants of Cancelled Products
EPA Company Number | Company Name and Address
264 | Bayer CropScience 2 T.W. Alexander Drive Research Triangle Park, North Carolina 27709
432 | Bayer Environmental Science 2 T.W. Alexander Drive PO Box 12014 Research Triangle Park, North Carolina 27709
5481 | Amvac Corporation 4695 Macarthur Court, Suite 1250 Newport Beach, California 92660-1706
72155 | Bayer Advanced 2 T.W. Alexander Drive PO Box 12014 Research Triangle Park, North Carolina 27709

III. Summary of Public Comments Received and Agency Response to Comments

The Agency did not receive any comments on the Notice, published on July 22, 2009, that announced receipt of the requests for voluntary cancellation and opened a 30-day public comment period that ended on August 21, 2009.

IV. Cancellation Order

Pursuant to FIFRA section 6(f), EPA hereby approves the requested cancellations of registrations identified in Table 1 of Unit II. Accordingly, the Agency orders that the disulfoton and methamidophos product registrations identified in Table 1 of Unit II are to be canceled on their designated effective dates. For disulfoton FIFRA Section 3 products, the cancellations for EPA Reg. Nos. 264-723, 264-734, 5481-8989, and 432-1286 are effective December 31, 2009. Cancellations for EPA Reg. Nos. 264-725 and 72155-49 are effective December 31, 2010. For all methamidophos products, cancellations are effective December 31, 2009. For both disulfoton and methamidophos, the effective cancellation dates for all FIFRA 24(c) Special Local Need registrations is December 31, 2009.

Any distribution, sale or use of existing stock of the products identified in Table I of Unit II in a manner inconsistent with any of the Provisions for Disposition of Existing Stocks set forth in Unit VI will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stock provisions. Bayer (Bayer CropScience, Bayer Environmental Science, and Bayer Advanced) may sell and distribute existing stocks of EPA Reg. Nos. 264-725, 264-729, 264-734, 264-741, 264-744, 264-1020, 264-1021, and 432-1286 until December 31, 2010. Bayer may sell and distribute existing stocks of EPA Reg. Nos. 264-723 and 72155-49 until June 30, 2011. Amvac Chemical Corp. may sell and distribute existing stocks of EPA Reg. No. 5481-8989 until December 31, 2010. For both methamidophos and disulfoton, Bayer and Amvac may sell and distribute existing stocks of State-registered products until December 31, 2010. For all affected methamidophos and disulfoton products, persons other than Bayer and AMVAC may sell and distribute existing stocks until exhausted. Use of the products canceled by this Notice may continue until existing stocks are exhausted, provided that such use is consistent with the terms of the previously approved labeling on, or that accompanied, the canceled products. The foregoing applies to all products in Table 1, both State-registered and federally-registered products.

List of Subject

Environmental protection, Pesticides and pests.

Dated: September 16, 2009.
Richard P. Keigwin, Jr.,
Director, Pesticide Re-evaluation Division, Office of Pesticide Programs.

[FR Doc. E9-22921 Filed 9-22-09; 8:45 a.m.]

BILLING CODE 6560-50-S